DEPARTMENT OF TRANSPORTATION

[Docket No. OST-2004-19172]

Office of Small and Disadvantaged Business Utilization and Minority Resource Center; Notice of Request for New Data Collection; Correction

AGENCY: Office of the Secretary, DOT.

ACTION: Notice; correction.

SUMMARY: The Office of Small and Disadvantaged Business Utilization and Minority Resource Center published a document in the Federal Register on December 30, 2004, concerning request for comments on new data collection for the Short-term Loan Program On-line Application. The document contained an incorrect date in which comments must be received.

FOR FURTHER INFORMATION CONTACT: Nancy Strine, Manager, Short-term Lending Program, Office of Small and Disadvantaged Business Utilization, U.S. Department of Transportation, 400 Seventh Street, SW., Washington, DC 20590, (202) 366-5344.

Correction

In the December 30, 2005, Federal Register [69 FR 78519], correct the “Dates” caption to read:

DATES: Comments must be received on or before February 27, 2005.

Issued in Washington, DC on December 30, 2004.
Sean M. Moss,
Director, Office of Small and Disadvantaged Business Utilization.

[FR Doc. 05-376 Filed 1-6-05; 8:45 am]

BILLING CODE 4910-62-P